DEPARTMENT OF THE INTERIOR

Bureau of Land Management

[LLORS00100.L63400000.PH0000.LXSS040H0000.15XL1116AF.HAG 15-0229]

Meeting of the Northwest Oregon Resource Advisory Council

AGENCY: Bureau of Land Management, Interior.

ACTION: Notice of Public Meeting.

SUMMARY: In accordance with the Federal Land Policy and Management Act and the Federal Advisory Committee Act, the Bureau of Land Management's (BLM) Northwest Oregon Resource Advisory Council (RAC) will meet as indicated below.

DATES: The RAC will meet on Wednesday, October 21, 2015, from 9:00 a.m.-4:30 p.m. and Thursday, October 22, 2015, from 9:00 a.m.-4:30 p.m. at the Salem District Office, 1717 Fabry Road SE., Salem, OR 97306. There will be one public comment period: 3:00-4:30 p.m. This meeting will focus on welcoming the new RAC members, reviewing the Charter, and discussing the responsibilities of the RAC in making recommendations regarding general forest management, recreation fees, and Secure Rural Schools Title II project proposals. The BLM Designated Federal Official (DFO) will be present to share the breadth of considerations and opportunities in the generation of recommendations.

FOR FURTHER INFORMATION CONTACT: Trish Hogervorst, Co-Coordinator for the Northwest Oregon RAC, 1717 Fabry Road SE., Salem, OR 97306, (503) 375-5657, phogervo@blm.gov, or Jennifer Velez, 3106 Pierce Parkway SE., Springfield, OR 97477, (541) 222-9241, jvelez@blm.gov. Persons who use a telecommunications device for the deaf (TDD) may call the Federal Information Relay Service (FIRS) at 1(800) 877-8339 to contact the above individuals during normal business hours. The FIRS is available 24 hours a day, 7 days a week, to leave a message or question with the above individuals. You will receive a reply during normal business hours.

SUPPLEMENTARY INFORMATION: The fifteen member Northwest Oregon RAC was chartered to serve in an advisory capacity concerning the planning and management of the public land resources located in whole or in part within the BLM's Salem and Eugene Districts. Members represent an array of stakeholder interests in the land and resources from within the local area and statewide. Planned agenda items include training on the Federal Advisory Committee Act, advisory council procedures, and RAC goal setting. At each meeting, members of the public will have the opportunity to make comments to the RAC during a public comment period. All advisory committee meetings are open to the public. Persons wishing to make comments during the public comment period should register in person with the BLM preceding that meeting day's comment period, at the meeting location. Depending on the number of persons wishing to comment, the length of comments may be limited. The public may send written comments to the RAC at the Salem District office, 1717 Fabry Road SE., Salem, OR 97306. The BLM appreciates all comments.

Kim M. Titus,
Salem District Manager.

[FR Doc. 2015-24109 Filed 9-21-15; 8:45 am]

BILLING CODE 4310-33-P